DEPARTMENT OF LABOR

Occupational Safety and Health Administration

[Docket No. OSHA-2009-0025]

UL LLC: Grant of Expansion of Recognition and Modification to the NRTL Program's List of Appropriate Test Standards

AGENCY: Occupational Safety and Health Administration (OSHA), Labor.

ACTION: Notice.

SUMMARY: In this notice, OSHA announces the final decision to expand the scope of recognition for UL LLC, as a Nationally Recognized Testing Laboratory (NRTL). Additionally, OSHA announces the final decision to add thirteen test standards to the NRTL Program's List of Appropriate Test Standards.

DATES: The expansion of the scope of recognition becomes effective on January 16, 2024.

FOR FURTHER INFORMATION CONTACT: Information regarding this notice is available from the following sources:

Press inquiries: Contact Mr. Frank Meilinger, Director, OSHA Office of Communications, U.S. Department of Labor; telephone (202) 693-1999 or email meilinger.francis2@dol.gov.

General and technical information: Contact Mr. Kevin Robinson, Director, Office of Technical Programs and Coordination Activities, Directorate of Technical Support and Emergency Management, Occupational Safety and Health Administration, U.S. Department of Labor; telephone (202) 693-1911 or email robinson.kevin@dol.gov.

SUPPLEMENTARY INFORMATION:

I. Notice of Final Decision

OSHA hereby gives notice of the expansion of the scope of recognition of UL LLC, (UL) as a NRTL. UL's expansion covers the addition of thirty-five test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by NRTLs or applicant organizations for initial recognition, as well as for expansion or renewal of recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including UL, which details that NRTL's scope of recognition. These pages are available from the OSHA website at https://www.osha.gov/dts/otpca/nrtl/index.html.

UL submitted two applications, one dated December 24, 2021 (OSHA-2009-0025-0053), and a second dated May 5, 2023 (OSHA-2009-0025-0054). The first application was amended on July 19, 2022, to remove two standards from the original request (OSHA-2009-0025-0055). In total, the expansion applications, as amended, requested the addition of thirty-seven test standards to the scope of recognition. OSHA staff performed a detailed analysis of the application packets and other pertinent information. OSHA did not perform any on-site reviews in relation to these applications. OSHA determined that two of the standards included in the amended expansion application, UL 80079-36 and 80079-37, are not appropriate test standards and therefore did not propose they be included in UL's NRTL Scope of Recognition or in the NRTL Program's List of Appropriate Test Standards. This expansion announced by this notice includes the remaining thirty-five standards.

OSHA published the preliminary notice announcing UL's expansion applications in the Federal Register on October 27, 2023 (88 FR 73874). The agency requested comments by November 13, 2023, but it received no comments in response to this notice.

To obtain or review copies of all public documents pertaining to the UL applications, go to http://www.regulations.gov or contact the Docket Office, Occupational Safety and Health Administration, U.S. Department of Labor. Docket No. OSHA-2009-0025 contains all materials in the record concerning UL's recognition. Contact the OSHA Docket Office at (202) 693-2350 (TTY (877) 889-5627) for assistance in locating docket submissions.

II. Final Decision and Order

OSHA staff examined UL's expansion applications, its capability to meet the requirements of the test standards, and other pertinent information. Based on its review of this evidence, OSHA finds that UL meets the requirements of 29 CFR 1910.7 for expansion of its recognition, subject to the limitations and conditions listed in this notice. OSHA, therefore, is proceeding with this final notice to grant UL's expanded scope of recognition. OSHA limits the expansion of UL's recognition to testing and certification of products for demonstration of conformance to the test standards listed below in Table 1.

Table 1—Test Standards for Inclusion in UL's NRTL Scope of Recognition
Test standard | Test standard title
UL 62841-1 | Electric Motor-Operated Hand-Held Tools, Transportable Tools and Lawn and Garden Machinery—Safety—Part 1: General Requirements.
UL 62841-2-1 | Electric Motor-Operated Hand-Held Tools, Transportable Tools And Lawn And Garden Machinery—Safety—Part 2-1: Particular Requirements for Hand-Held Drills and Impact Drills.
UL 62841-2-2 | Electric Motor-Operated Hand-Held Tools, Transportable Tools and Lawn and Garden Machinery—Safety—Part 2-2: Particular Requirements For Hand-Held Screwdrivers and Impact Wrenches.
UL 62841-2-3 * | Electric Motor-Operated Hand-held Tools, Transportable Tools And Lawn And Garden Machinery—Safety—Part 2-3: Particular Requirements For Hand-Held Grinders, Disc-Type Polishers And Disc-Type Sanders.
UL 62841-2-4 | Electric Motor-Operated Hand-Held Tools, Transportable Tools and Lawn and Garden Machinery—Safety—Part 2-4: Particular Requirements For Hand-Held Sanders And Polishers Other.
UL 62841-2-5 | Electric Motor-Operated Hand-Held Tools, Transportable Tools And Lawn And Garden Machinery—Safety—Part 2-5: Particular Requirements for Hand-Held Circular Saws.
UL 62841-2-8 | Safety Requirements for Particular Requirements for Hand-Held Shears and Nibblers.
UL 62841-2-9 | Electric Motor-Operated Hand-Held Tools, Transportable Tools And Lawn and Garden Machinery—Safety—Part 2-9: Particular Requirements for Hand-Held Tappers and Threaders.
UL 62841-2-10 | Electric Motor-Operated Hand-Held Tools, Transportable Tools And Lawn And Garden Machinery—Safety Part 2-10: Particular Requirements for Hand-Held Mixers.
UL 62841-2-11 | Safety Requirements for Particular Requirements for Hand-Held Reciprocating Saws.
UL 62841-2-14 | Electric Motor-Operated Hand-Held Tools, Transportable Tools and Lawn And Garden Machinery—Safety—Part 2-14: Particular Requirements for Hand-Held Planers.
UL 62841-2-17 | Electric Motor-Operated Hand-Held Tools, Transportable Tools and Lawn and Garden Machinery—Safety—Part 2-17: Particular Requirements for Hand-Held Routers.
UL 62841-2-21 | Electric Motor-Operated Hand-Held Tools, Transportable Tools And Lawn And Garden Machinery—Safety Part 2-21: Particular Requirements for Hand-Held Drain Cleaners.
UL 62841-3-1 | Electric Motor-Operated Hand-Held Tools, Transportable Tools and Lawn and Garden Machinery—Safety—Part 3-1: Particular Requirements For Transportable Table Saws.
UL 62841-3-4 | Safety Requirements for Particular Requirements for Transportable Bench Grinders.
UL 62841-3-6 | Safety Requirements for Particular Requirements for Transportable Diamond Drills with Liquid System.
UL 62841-3-7 * | Electric Motor-Operated Hand-Held Tools, Transportable Tools And Lawn And Garden Machinery—Safety—Part 3-7: Particular Requirements for Transportable Wall Saws.
UL 62841-3-9 | Electric Motor-Operated Hand-Held Tools, Transportable Tools and Lawn and Garden Machinery—Safety—Part 3-9: Particular Requirements for Transportable Mitre Saws.
UL 62841-3-10 | Electric Motor-Operated Hand-Held Tools, Transportable Tools and Lawn and Garden Machinery—Safety—Part 3-10: Particular Requirements for Transportable Cut-Off Machines.
UL 62841-3-12 * | Electric Motor-Operated Hand-Held Tools, Transportable Tools and Lawn and Garden Machinery—Safety—Part 3-12: Particular Requirements for Transportable Threading Machines.
UL 62841-3-13 | Electric Motor-Operated Hand-Held Tools, Transportable Tools And Lawn And Garden Machinery—Safety Part 3-13: Particular Requirements for Transportable Drills.
UL 62841-3-14 * | Electric Motor-Operated Hand-Held Tools, Transportable Tools And Lawn And Garden Machinery—Safety—Part 3-14: Particular Requirements for Transportable Drain Cleaners.
UL 62841-3-1000 * | Electric Motor-Operated Hand-Held Tools, Transportable Tools And Lawn And Garden Machinery—Safety—Part 3-1000: Particular Requirements For Transportable Laser Engravers.
UL 62841-4-1 | Electric Motor-Operated Hand-Held Tools, Transportable Tools and Lawn And Garden Machinery—Safety—Part 4-1: Particular Requirements for Chain Saws.
UL 62841-4-2 | Standard for Electric Motor-Operated Hand-Held Tools, Transportable Tools and Lawn And Garden Machinery—Safety—Part 4-2: Particular Requirements for Hedge Trimmers.
UL 62841-4-4 * | Electric Motor-Operated Hand-Held Tools, Transportable Tools And Lawn And Garden Machinery—Safety—Part 4-4: Particular Requirements For Lawn Trimmers, Lawn Edge Trimmers, Grass Trimmers, Brush Cutters And Brush Saws.
UL 62841-4-1000 * | Electric Motor-Operated Hand-Held Tools, Transportable Tools And Lawn And Garden Machinery—Safety—Part 4-1000: Particular Requirements For Utility Machines.
UL 60745-2-23 | Hand-Held Motor-Operated Electric Tools—Safety—Part 2-23: Particular Requirements for Die Grinders and Small Rotary Tools.
UL 60079-33 * | Explosive Atmospheres—Part 33: Equipment Protection by Special Protection “s“
UL 2610 * | Commercial Premises Security Alarm Units and Systems.
UL 428A * | Electrically Operated Valves for Gasoline and Gasoline/Ethanol Blends with Nominal Ethanol Concentrations Up to 85 Percent (E0-E85).
UL 428B * | Electrically Operated Valves for Diesel Fuel, Biodiesel Fuel, Diesel/Biodiesel Blends with Nominal Biodiesel Concentrations Up To 20 Percent (B20), Kerosene, and Fuel Oil.
UL 3100 * | ANSI/CAN/UL Automated Mobile Platforms (AMPs).
UL 2743 | Standard for Portable Power Packs.
UL 8400 * | Virtual Reality, Augmented Reality and Mixed Reality Technology Equipment.
* Represents the standards that OSHA will add to the NRTL Program's List of Appropriate Test. Standards.

In this notice, OSHA also announces the final decision to add thirteen new test standards to the NRTL Program's List of Appropriate Test Standards. Table 2 below lists the standards that are new to the NRTL Program. OSHA has determined that these test standards are appropriate test standards and will add them to the NRTL Program's List of Appropriate Test Standards.

Table 2—Standards OSHA Will Add to the NRTL Program's List of Appropriate Test Standards
Test standard | Test standard title
UL 62841-2-3 | Electric Motor-Operated Hand-held Tools, Transportable Tools And Lawn And Garden Machinery—Safety—Part 2-3: Particular Requirements For Hand-Held Grinders, Disc-Type Polishers And Disc-Type Sanders.
UL 62841-3-7 | Electric Motor-Operated Hand-Held Tools, Transportable Tools and Lawn and Garden Machinery—Safety—Part 3-7: Particular Requirements for Transportable Wall Saws.
UL 62841-3-12 | Electric Motor-Operated Hand-Held Tools, Transportable Tools and Lawn and Garden Machinery—Safety—Part 3-12: Particular Requirements for Transportable Threading Machines.
UL 62841-3-14 | Electric Motor-Operated Hand-Held Tools, Transportable Tools and Lawn and Garden Machinery—Safety—Part 3-14: Particular Requirements for Transportable Drain Cleaners.
UL 62841-3-1000 | Electric Motor-Operated Hand-Held Tools, Transportable Tools and Lawn and Garden Machinery—Safety—Part 3-1000: Particular Requirements For Transportable Laser Engravers.
UL 62841-4-1000 | Electric Motor-Operated Hand-Held Tools, Transportable Tools and Lawn and Garden Machinery—Safety—Part 4-1000: Particular Requirements For Utility Machines.
UL 62841-4-4 | Electric Motor-Operated Hand-Held Tools, Transportable Tools And Lawn And Garden Machinery—Safety—Part 4-4: Particular Requirements for Lawn Trimmers, Lawn Edge Timmers, Grass Trimmers, Brush Cutters And Brush Saws.
UL 60079-33 | Explosive Atmospheres—Part 33: Equipment Protection by Special Protection “s”.
UL 2610 | Commercial Premises Security Alarm Units and Systems.
UL 428A | Electrically Operated Vales for Gasoline and Gasoline/Ethanol Blends with Nominal Ethanol Concentrations Up to 85 Percent (E0-E85).
UL 428B | Electrically Operated Valves for Diesel Fuel, Biodiesel Fuel, Diesel/Biodiesel Blends with Nominal Biodiesel Concentrations Up To 20 Percent (B20), Kerosene, and Fuel Oil.
UL 3100 | ANSI/CAN/UL Automated Mobile Platforms (AMPs).
UL 8400 | Virtual Reality, Augmented Reality and Mixed Reality Technology Equipment.

The American National Standards Institute (ANSI) may approve the test standards listed above as American National Standards. However, for convenience, we may use the designation of the standards-developing organization for the standard as opposed to the ANSI designation. Under the NRTL Program's policy (see OSHA Instruction CPL 01-00-004, Chapter 2, Section VIII), any NRTL recognized for a particular test standard may use either the proprietary version of the test standard or the ANSI version of that standard. Contact ANSI to determine whether a test standard is currently ANSI-approved.

A. Conditions

In addition to those conditions already required by 29 CFR 1910.7, UL must abide by the following conditions of the recognition:

1. UL must inform OSHA as soon as possible, in writing, of any change of ownership, facilities, or key personnel, and of any major change in its operations as a NRTL, and provide details of the change(s);

2. UL must meet all the terms of its recognition and comply with all OSHA policies pertaining to this recognition; and

3. UL must continue to meet the requirements for recognition, including all previously published conditions on UL's scope of recognition, in all areas for which it has recognition.

Pursuant to the authority in 29 CFR 1910.7, OSHA hereby expands the scope of recognition of UL as a NRTL, subject to the limitations and conditions specified above.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC.
James S. Frederick,
Deputy Assistant Secretary of Labor for Occupational Safety and Health.

[FR Doc. 2024-00623 Filed 1-12-24; 8:45 am]

BILLING CODE 4510-26-P